DEPARTMENT OF COMMERCE

International Trade Administration

[A-570-112]

Certain Collated Steel Staples From the People's Republic of China: Antidumping Duty Order

AGENCY: Enforcement and Compliance, International Trade Administration, Department of Commerce.

SUMMARY: Based on the affirmative final determinations by the Department of Commerce (Commerce) and the International Trade Commission (ITC), Commerce is issuing an antidumping duty order on certain collated steel staples (collated staples) from the People's Republic of China (China).

DATES: Applicable July 20, 2020.

FOR FURTHER INFORMATION CONTACT: Sergio Balbontin or William Horn, AD/CVD Operations, Office V, Enforcement and Compliance, U.S. Department of Commerce, 1401 Constitution Avenue NW, Washington, DC 20230; telephone (202) 482-6478 or (202) 482-4868, respectively.

SUPPLEMENTARY INFORMATION:

Background

On June 2, 2020, Commerce published its affirmative final determination in the less-than-fair-value (LTFV) investigation of collated staples from China.¹ On July 13, 2020, the ITC notified Commerce of its affirmative determination, pursuant to section 735(d) of the Tariff Act of 1930, as amended (the Act), that an industry in the United States is materially injured within the meaning of section 735(b)(1)(A)(i) of the Act, by reason of LTFV imports of collated staples from China, and of its determination that critical circumstances do not exist with respect to imports of collated staples from China.²

¹ See Certain Collated Steel Staples from the People's Republic of China: Final Affirmative Determination of Sales at Less Than Fair Value and Final Affirmative Critical Circumstances Determination, 85 FR 33623 (June 2, 2020).

² See ITC Notification Letter, Investigation Nos. 701-TA-626 and 731-TA-1452 (July 13, 2020).

Scope of the Order

The product covered by this order is collated staples from China. For a complete description of the scope of this order, see the appendix to this notice.

Antidumping Duty Order

On July 13, 2020, in accordance with section 735(d) of the Act, the ITC notified Commerce of its final determination in this investigation, in which it found that an industry in the United States is materially injured by reason of imports of collated staples from China.³ Therefore, in accordance with section 735(c)(2) of the Act, Commerce is issuing this antidumping duty order. Because the ITC determined that imports of collated staples from China are materially injuring a U.S. industry, all unliquidated entries of such merchandise from China, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of collated staples from China. With the exception of entries occurring after the expiration of the provisional measures period and before publication of the ITC's final injury determination, as further described below, antidumping duties will be assessed on unliquidated entries of collated staples from China entered, or withdrawn from warehouse, for consumption, on or after January 8, 2020, the date of publication of the Preliminary Determination.⁴

⁴ See Certain Collated Steel Staples from the People's Republic of China: Preliminary Affirmative Determination of Sales at Less Than Fair Value, Preliminary Affirmative Determination of Critical Circumstances, Postponement of Final Determination and Extension of Provisional Measures, 85 FR 882 (January 8, 2020) (Preliminary Determination).

Critical Circumstances

With regard to the ITC's negative critical circumstances determination on imports of collated staples from China, we will instruct CBP to lift suspension and to refund any cash deposits made to secure the payment of estimated antidumping duties with respect to entries of collated staples from China, entered or withdrawn from warehouse, for consumption on or after October 10, 2019 (i.e., 90 days prior to the date of publication of the preliminary determination), but before January 8, 2020 (i.e., the date of publication of the preliminary determination for this investigation).

Continuation of Suspension of Liquidation

Except as noted in the “Provisional Measures” section of this notice, in accordance with section 735(c)(1)(B) of the Act, Commerce will instruct CBP to continue to suspend liquidation on all relevant entries of collated staples from China. These instructions suspending liquidation will remain in effect until further notice.

Commerce will also instruct CBP to require cash deposits equal to the estimated dumping margins indicated in the tables below, adjusted by the export subsidy offset. Given that the provisional measures period has expired, as explained below, effective on the date of publication in the Federal Register of the notice of the ITC's final affirmative injury determination, CBP must require, at the same time as importers would deposit estimated normal customs duties on this merchandise, a cash deposit equal to the rates noted below.⁵

⁵ See section 736(a)(3) of the Act.

The China-wide entity rate applies to all exporter-producer combinations not specifically listed.

Estimated Weighted-Average Dumping Margins

The estimated dumping margins are as follows:

Producer | Exporter | Estimated weighted- average dumping margin (percent) | Cash deposit rate (adjusted for subsidy offsets) (percent)
Tianjin Heston Fasteners Manufacturing Co., Ltd | Tianjin Hweschun Fasteners Manufacturing Co., Ltd | 96.15 | 85.61
Tianjin Jin Xin Sheng Long Metal Products Co., Ltd | Tianjin Jin Xin Sheng Long Metal Products Co., Ltd | 122.55 | 112.01
China Staple (Tianjin) Co., Ltd | China Staple (Tianjin) Co., Ltd | 96.15 | 85.61
Shanghai Yueda Nails Co., Ltd | Shanghai Yueda Nails Co., Ltd | 96.15 | 85.61
Shijiazhuang Shuangming Trade Co., Ltd | Shijiazhuang Shuangming Trade Co., Ltd | 96.15 | 85.61
Tianjin Jinyifeng Hardware Co., Ltd | Tianjin Jinyifeng Hardware Co., Ltd | 96.15 | 85.61
Unicom Fasteners Co., Ltd | Unicom Fasteners Co., Ltd. | 96.15 | 85.61
Zhejiang Best Nail Industrial Co., Ltd | Zhejiang Best Nail Industrial Co., Ltd | 96.15 | 85.61
China-Wide Entity |  | 122.55 | 112.01

Provisional Measures

Section 733(d) of the Act states that instructions issued pursuant to an affirmative preliminary determination may not remain in effect for more than four months, except where exporters representing a significant proportion of exports of the subject merchandise request Commerce to extend that four-month period to no more than six months. At the request of exporters that account for a significant proportion of collated staples from China, Commerce extended the four-month period to six months in the proceeding. In the underlying investigation, Commerce published the preliminary determination on January 8, 2020.⁶ The extended provisional measures period, beginning on the date of publication of the preliminary determination, ended on July 5, 2020. Therefore, in accordance with section 737(b) of the Act and our practice,⁷ Commerce will instruct CBP to terminate the suspension of liquidation and to liquidate, without regard to antidumping duties, unliquidated entries of collated staples from China entered, or withdrawn from warehouse, for consumption after July 5, 2020, the final day on which the provisional measures were in effect, until and through the day preceding the date of publication of the ITC's final affirmative injury determination in the Federal Register. Suspension of liquidation and the collection of cash deposits will resume on the date of publication of the ITC's final determination in the Federal Register.

⁶ See Preliminary Determination.

⁷ See, e.g., Certain Corrosion-Resistant Steel Products from India, Italy, the People's Republic of China, the Republic of Korea and Taiwan: Amended Final Affirmative Antidumping Determination for India and Taiwan, and Antidumping Duty Orders, 81 FR 48390 (July 25, 2016).

Notifications to Interested Parties

This notice constitutes the antidumping duty order with respect to collated staples from China pursuant to section 736(a) of the Act. Interested parties can find a list of antidumping duty orders currently in effect at http://enforcement.trade.gov/stats/iastats1.html.

The antidumping duty order is published in accordance with section 736(a) of the Act and § 351.211(b).

Dated: July 14, 2020.
Jeffrey I. Kessler,
Assistant Secretary for Enforcement and Compliance.

Appendix

Scope of the Order

The merchandise covered by the scope of this order is certain collated steel staples. Certain collated steel staples subject to this order are made from steel wire having a nominal diameter from 0.0355 inch to 0.0830 inch, inclusive, and have a nominal leg length from 0.25 inch to 3.0 inches, inclusive, and a nominal crown width from 0.187 inch to 1.125 inch, inclusive. Certain collated steel staples may be manufactured from any type of steel, and are included in the scope of this order regardless of whether they are uncoated or coated, and regardless of the type or number of coatings, including but not limited to coatings to inhibit corrosion.

Certain collated steel staples may be collated using any material or combination of materials, including but not limited to adhesive, glue, and adhesive film or adhesive or paper tape.

Certain collated steel staples are generally made to American Society for Testing and Materials (ASTM) specification ASTM F1667-18a, but can also be made to other specifications.

Excluded from the scope of this order are any carton-closing staples covered by the scope of the existing antidumping duty order on Carton-Closing Staples from the People's Republic of China. See Carton-Closing Staples from the People's Republic of China: Antidumping Duty Order, 83 FR 20792 (May 8, 2018).

Also excluded are collated fasteners commonly referred to as “C-ring hog rings” and “D-ring hog rings” produced from stainless or carbon steel wire having a nominal diameter of 0.050 to 0.081 inches, inclusive. C-ring hog rings are fasteners whose legs are not perpendicular to the crown, but are curved inward resulting in the fastener forming the shape of the letter “C”. D-ring hog rings are fasteners whose legs are straight but not perpendicular to the crown, instead intersecting with the crown at an angle ranging from 30 degrees to 75 degrees. The hog rings subject to the exclusion are collated using glue, adhesive, or tape. The hog rings subject to this exclusion have either a 90 degree blunt point or 15-75 degree divergent point.

Certain collated steel staples subject to this order are currently classifiable under subheading 8305.20.0000 of the Harmonized Tariff Schedule of the United States (HTSUS). While the HTSUS subheading and ASTM specification are provided for convenience and for customs purposes, the written description of the subject merchandise is dispositive.

[FR Doc. 2020-15622 Filed 7-17-20; 8:45 am]

BILLING CODE 3510-DS-P